SECURITIES AND EXCHANGE COMMISSION

[Release No. IC-25724]

Notice of Applications for Deregistration Under Section 8(f) of the Investment Company Act of 1940

August 30, 2002.

The following is a notice of applications for deregistration under section 8(f) of the Investment Company Act of 1940 for the month of August, 2002. A copy of each application may be obtained for a fee at the SEC's Public Reference Branch, 450 Fifth St., NW., Washington, DC 20549-0102 (tel. 202-942-8090). An order granting each application will be issued unless the SEC orders a hearing. Interested persons may request a hearing on any application by writing to the SEC's Secretary at the address below and serving the relevant applicant with a copy of the request, personally or by mail. Hearing requests should be received by the SEC by 5:30 p.m. on September 24, 2002, and should be accompanied by proof of service on the applicant, in the form of an affidavit or, for lawyers, a certificate of service. Hearing requests should state the nature of the writer's interest, the reason for the request, and the issues contested. Persons who wish to be notified of a hearing may request notification by writing to the Secretary, SEC, 450 Fifth Street, NW., Washington, DC 20549-0609.

FOR FURTHER INFORMATION CONTACT: Diane L. Titus at (202) 942-0564, SEC, Division of Investment Management, Office of Investment Company Regulation, 450 Fifth Street, NW., Washington, DC 20549-0506.

CDC Kobrick Investment Trust [File No. 811-8435]

Summary: Applicant seeks an order declaring that it has ceased to be an investment company. On November 16, 2001, each series of applicant transferred its assets to a corresponding series of CDC NVEST Funds Trust I, based on net asset value. Expenses of $632,656 incurred in connection with the reorganization were paid by Kobrick Funds LLC and CDC IXIS Asset Management North America, L.P., applicant's investment advisers.

Filing Dates: The application was filed on July 25, 2002, and amended on August 20, 2002.

Applicant's Address: CDC IXIS Asset Management Services, Inc., 399 Boylston St., Boston, MA 02116.

Merrill Lynch Premier Growth Fund, Inc. [File No. 811-9653]

Master Premier Growth Trust [File No. 811-9733]

Summary: Applicants, a feeder fund and a master fund, respectively, in a master-feeder structure, seek an order declaring that each has ceased to be an investment company. On May 20, 2002, applicants transferred their assets to Merrill Lynch Large Cap Growth Fund, a series of Merrill Lynch Large Cap Series Funds, Inc., based on net asset value. Expenses of $235,933 incurred in connection with the reorganization will be paid by the surviving fund.

Filing Date: The applications were filed on August 7, 2002.

Applicants' Address: 800 Scudders Mill Rd., Plainsboro, NJ 08536.

Merrill Lynch Mid Cap Growth Fund, Inc. [File No. 811-10025]

Master Mid Cap Growth Trust [File No. 811-10125]

Summary: Applicants, a feeder fund and a master fund, respectively, in a master-feeder structure, seek an order declaring that each has ceased to be an investment company. On May 20, 2002, applicants transferred their assets to Merrill Lynch Large Cap Growth Fund, a series of Merrill Lynch Large Cap Series Funds, Inc., based on net asset value. Expenses of $99,206 incurred in connection with the reorganization will be paid by the surviving fund.

Filing Date: The applications were filed on August 7, 2002.

Applicants' Address: 800 Scudders Mill Rd., Plainsboro, NJ 08536.

Centennial Capital Appreciation Fund, Inc. [File No. 811-3545]

Summary: Applicant seeks an order declaring that it has ceased to be an investment company. On August 15, 1986, applicant transferred its assets to Oppenheimer Variable Accounts Fund, based on net asset value. Expenses of less than $7,300 incurred in connection with the reorganization were paid by applicant.

Filing Dates: The application was filed on September 7, 2001, and amended on August 9, 2002.

Applicant's Address: Centennial Asset Management Corporation, 6803 S. Tucson Way, Englewood, CO 80112.

MuniYield Sunshine Fund, Inc. (Formerly MuniYield California Insured Fund, Inc.) [File No. 811-6645]

Summary: Applicant, a closed-end investment company, seeks an order declaring that it has ceased to be an investment company. On February 4, 2002, applicant transferred its assets to MuniYield California Insured Fund, Inc. (formerly MuniYield California Insured Fund II, Inc.) based on net asset value. Applicant's shareholders who held auction market preferred stock (“AMPS”) received the equivalent number of a newly created series of AMPS of the acquiring fund. Expenses of $257,483 incurred in connection with the reorganization were paid by the acquiring fund.

Filing Date: The application was filed on August 2, 2002.

Applicant's Address: 800 Scudders Mill Rd., Plainsboro, NJ 08536.

Franklin Capital Corporation [File No. 811-5103]

Summary: Applicant, a closed-end investment company, seeks an order declaring that it has ceased to be an investment company, as of November 18, 1997, the date applicant elected to be regulated as a business development company.

Filing Date: The application was filed on August 2, 2002.

Applicant's Address: 450 Park Ave., 10th Floor, New York, NY 10022.

AH&H Partners Fund Limited Partnership [File No. 811-7579]

Summary: Applicant, a closed-end investment company, seeks an order declaring that it has ceased to be an investment company. Between January 18, 2002 and March 31, 2002, applicant made liquidating distributions to its limited partners, based on net asset value. Applicant has 59 remaining limited partners. Applicant's remaining assets consist of illiquid securities which will be liquidated and the proceeds distributed to the partners. Applicant incurred no expenses in connection with the liquidation.

Filing Dates: The application was filed on March 8, 2002, and amended on June 18, 2002, August 1, 2002 and August 2, 2002.

Applicant's Address: Adams, Harkness & Hill, Inc., 60 State St., Boston, MA 02109.

Gintel ERISA Fund [File No. 811-3279]

Summary: Applicant seeks an order declaring that it has ceased to be an investment company. On September 30, 1996, applicant transferred its assets to Gintel Fund, based on net asset value. Expenses of $113,125 incurred in connection with the reorganization were paid by applicant and the acquiring fund.

Filing Dates: The application was filed on June 6, 2002, and amended on August 1, 2002.

Applicant's Address: 6 Greenwich Office Park, Greenwich, CT 06831.

The Aronhalt Trust [File No. 811-10483]

Summary: Applicant seeks an order declaring that it has ceased to be an investment company. On May 23, 2002 and June 25, 2002, applicant made liquidating distributions to its shareholders based on net asset value. Expenses of approximately $5,000 incurred in connection with the liquidation were paid by Aronhalt Capital Management, Inc., applicant's investment adviser.

Filing Date: The application was filed on July 17, 2002.

Applicant's Address: 13 Eavenson Way, Glen Mills, PA 19342.

Independence One Mutual Funds [File No. 811-5752]

Summary: Applicant seeks an order declaring that it has ceased to be an investment company. By June 17, 2002, each of applicant's portfolios had transferred its assets to a corresponding portfolio of ABN AMRO Funds or Money Market Obligations Trust, based on net asset value. Applicant incurred no expenses in connection with the reorganization.

Filing Date: The application was filed on July 16, 2002.

Applicant's Address: 5800 Corporate Dr., Pittsburgh, PA 15237-7001.

Merrill Lynch Short-Term Global Income Fund, Inc. [File No. 811-6089]

Summary: Applicant seeks an order declaring that it has ceased to be an investment company. On June 17, 2002, applicant transferred its assets to Merrill Lynch Low Duration Fund, a series of Merrill Lynch Investment Managers Funds, Inc., based on net asset value. Expenses of $208,188 incurred in connection with the reorganization will be paid by the surviving fund.

Filing Date: The application was filed on July 19, 2002.

Applicant's Address: Merrill Lynch Investment Managers, L.P., 800 Scudders Mill Rd., Plainsboro, NJ 08536.

UAM Funds, Inc. II [File No. 811-8605]

Summary: Applicant seeks an order declaring that it has ceased to be an investment company. On June 24, 2002, each portfolio of applicant transferred its assets to a corresponding portfolio of The Advisors' Inner Circle Fund, based on net asset value. Expenses of $101,170 incurred in connection with the reorganization were paid by Old Mutual (US) Holdings Inc., parent of applicant's investment adviser.

Filing Date: The application was filed on July 26, 2002.

Applicant's Address: One Freedom Valley Dr., Oaks, PA 19456.

UAM Funds, Inc. [File No. 811-5683]

Summary: Applicant seeks an order declaring that it has ceased to be an investment company. On June 24, 2002, fifteen of applicant's sixteen portfolios transferred their assets to corresponding portfolios of The Advisors' Inner Circle Fund, based on net asset value. On June 25, 2002, applicant's remaining portfolio, Dwight Limited Maturity Bond Portfolio, made a liquidating distribution to its shareholders, based on net asset value. Expenses of $457,873 incurred in connection with the reorganization and liquidation were paid by Old Mutual (US) Holdings Inc., parent of applicant's investment adviser.

Filing Date: The application was filed on July 26, 2002.

Applicant's Address: One Freedom Valley Dr., Oaks, PA 19456.

Putnam Preferred Income Fund [File No. 811-3873]

Summary: Applicant seeks an order declaring that it has ceased to be an investment company. On May 17, 2002, applicant made a liquidating distribution to its shareholders, based on net asset value. Applicant has retained assets in the amount of $44,250 to pay outstanding liabilities. Applicant incurred no expenses in connection with the liquidation.

Filing Dates: The application was filed on May 31, 2002, and amended on July 25, 2002.

Applicant's Address: One Post Office Sq., Boston, MA 02109.

Friends Ivory Funds [File No. 811-9601]

Summary: Applicant seeks an order declaring that it has ceased to be an investment company. On March 29, 2002, applicant made a liquidating distribution to its shareholders based on net asset value. Expenses of $5,000 incurred in connection with the liquidation were paid by Friends Ivory Social Awareness Fund and Friends Ivory European Social Awareness Fund.

Filing Dates: The application was filed on July 3, 2002, and amended on July 26, 2002.

Applicant's Address: 1209 Orange St., Wilmington, DE 19801.

For the Commission, by the Division of Investment Management, pursuant to delegated authority.
Margaret H. McFarland,
Deputy Secretary.

[FR Doc. 02-22845 Filed 9-6-02; 8:45 am]

BILLING CODE 8010-01-P